DEPARTMENT OF VETERANS AFFAIRS

Research Advisory Committee on Gulf War Veterans' Illnesses; Notice of Meeting

The Department of Veterans Affairs (VA) gives notice under the Federal Advisory Committee Act, 5 U.S.C. App. 2, that the Research Advisory Committee on Gulf War Veterans' Illnesses will meet on April 28 and 29, 2014, in room 230 at VA Central Office, 810 Vermont Avenue NW., Washington, DC. The meeting will start at 8:00 a.m. each day and will adjourn at 5:00 p.m. on April 28 and at 12:30 p.m. on April 29. All sessions will be open to the public.

The purpose of the Committee is to provide advice and make recommendations to the Secretary of Veterans Affairs on proposed research studies, research plans, and research strategies relating to the health consequences of military service in the Southwest Asia theater of operations during the Gulf War.

The Committee will review VA program activities related to Gulf War Veterans' illnesses, and updates on relevant scientific research published since the last Committee meeting. Presentations on April 28 will include updates on the VA Gulf War Research Program, followed by research presentations on Gulf War animal studies. The Committee will devote the remainder of April 28 and all of April 29 to a discussion of Committee business and activities.

The meeting will include time reserved for public comments on both days in the afternoon. A sign-up sheet for 5-minute comments will be available at the meeting. Individuals who wish to address the Committee may submit a 1-2 page summary of their comments for inclusion in the official meeting record. Members of the public may also submit written statements for the Committee's review to Dr. Roberta White at rwhite@bu.edu.

Because the meeting is being held in a government building, a photo I.D. must be presented at the Guard's Desk as part of the clearance process. Therefore, any person attending should allow an additional 15 minutes before the meeting begins. Any member of the public seeking additional information should contact Dr. White, Scientific Director, at (617) 638-4620 or Dr. Victor Kalasinsky, Designated Federal Officer, at (202) 443-5682.

Dated: March 31, 2014.
Rebecca Schiller,
Committee Management Officer.

[FR Doc. 2014-07427 Filed 4-2-14; 8:45 am]

BILLING CODE P